DEPARTMENT OF HEALTH AND HUMAN SERVICES

Health Resources and Services Administration

Notice of Single Source Award to the Rural Communities Opioid Response Program—Technical Assistance

AGENCY: Health Resources and Services Administration (HRSA), Department of Health and Human Services.

ACTION: Notice.

SUMMARY: The Rural Communities Opioid Response Program—Technical Assistance (RCORP-TA), program supports rural consortiums and opioid recipients that provide treatment for and prevention of substance use disorder with a focus on opioid use disorder. The TA efforts will enhance the organizational and infrastructural capacity of multi-sector consortiums at the community, county, state, and/or regional levels. The overall goal is the reduction of morbidity and mortality associated with opioid overdoses in high-risk rural communities. The RCORP-TA award recipient provides resources and expertise in support of the execution of the following focus areas: (1) Prevention—reducing the occurrence of opioid use disorder (OUD) among new and at-risk users as well as fatal opioid-related overdoses through community and provider education and harm reduction measures including the strategic placement of overdose reversing devices, such as naloxone; (2) treatment—implementing or expanding access to evidence-based practices for opioid addiction/OUD treatment such as medication-assisted treatment, including developing strategies to eliminate or reduce treatment costs to uninsured and underinsured patients; and (3) recovery—expanding peer recovery and treatment options to help people start and stay in recovery.

The RCORP-TA initiative is part of a multi-year, opioid focused effort by HRSA that will include: Improving access to and recruitment of new substance use disorder providers; building sustainable treatment resources; increasing the use of telehealth; establishing cross-sector community partnerships; implementing new models of care, including integrated behavioral health; and providing technical assistance.

SUPPLEMENTARY INFORMATION:

Intended Recipient of the Award: JBS International, Inc. (U6BRH32364).

Amount of Award: $3,000,000.

Project Period: September 30, 2019-September 29, 2020.

CFDA Number: 93.912.

Authority: Public Health Service Act, Section 330A (f) (42 U.S.C. 254c (f)), as amended.

Justificaton: Additional funding will be awarded annually through FY 2022 contingent on satisfactory performance of the recipient, and continued availability of funds.

The RCORP-TA program was announced under HRSA-18-124. In FY 2018, HRSA funded this program at up to $3,000,000 per year to one awardee, JBS International, Inc., for a period of performance for up to 4 years. RCORP-TA program was competed in late FY 2018. At the time of the award, RCORP-TA recipient was expected to provide technical assistance to 75 opioid award recipients. The current RCORP-TA recipient is expected to support approximately 318 opioid award recipients. As a result of this increase in opioid award recipients, the RCORP-TA recipient will need additional funds to expand its capacity to provide TA services. Supplemental funding is required for the current RCOPR-TA award recipient to provide TA services to the additional 243 opioid award recipients. These additional funds will enable the current recipient to provide high quality TA.

Further information on the Telehealth Focused Rural Health Research Center is available at: https://www.hrsa.gov/ruralhealth/programopportunities/fundingopportunities/default.aspx?id=482de32c-8b8d-4960-bb86-caad8c9d6905

FOR FURTHER INFORMATION CONTACT: Marcia Colburn, Program Coordinator, RCORP-TA, (301) 443-3261, MColburn@hrsa.gov.

Dated: October 4, 2019.
Thomas J. Engels,
Acting Administrator.

[FR Doc. 2019-22434 Filed 10-11-19; 8:45 am]

BILLING CODE 4165-15-P